ENVIRONMENTAL PROTECTION AGENCY

40 CFR Part 63

[EPA-HQ-OAR-2006-0406, FRL-8684-7]

RIN 2060-AM74

National Emission Standards for Hazardous Air Pollutants for Source Category: Gasoline Dispensing Facilities

AGENCY: Environmental Protection Agency (EPA).

ACTION: Proposed rule.

SUMMARY: EPA is proposing to amend the National Emission Standards for Hazardous Air Pollutants for Source Category: Gasoline Dispensing Facilities, which EPA promulgated on January 10, 2008, and amended on March 7, 2008. The January 10, 2008 rule established national emission standards for hazardous air pollutants for the facilities in the gasoline distribution (Stage I) area source category. This action only affects area source gasoline dispensing facilities with a monthly throughput of 100,000 gallons of gasoline or more. In this action, EPA is proposing to amend the pressure and vacuum vent valve cracking pressure and leak rate requirements for vapor balance systems used to control emissions from gasoline storage tanks at gasoline dispensing facilities. Newly constructed or reconstructed gasoline dispensing facilities must comply with the new vapor balance system requirements as explained in the parallel direct final rule published in today's Regulations and Rules section of this Federal Register.

DATES: Comments. Written comments must be received on or before August 11, 2008.

Public Hearing. If anyone contacts EPA requesting to speak at a public hearing by July 7, 2008, a public hearing will be held on July 10, 2008.

ADDRESSES: Submit your comments, identified by Docket ID No. EPA-HQ-OAR-2006-0406, by mail to Air and Radiation Docket (2822T), 1200 Pennsylvania Avenue, NW., Washington, DC 20460. Please include a total of two copies. Comments may also be submitted electronically or through hand delivery/courier by following the detailed instructions in the ADDRESSES section of the direct final rule located in the rules section of this Federal Register.

We request that you also send a separate copy of each comment to the contact persons listed below (see FOR FURTHER INFORMATION CONTACT).

FOR FURTHER INFORMATION CONTACT:

General and Technical Information: Mr. Stephen Shedd, Office of Air Quality Planning and Standards, Sector Policies and Programs Division, Coatings and Chemicals Group (E143-01), EPA, Research Triangle Park, NC 27711, telephone: (919) 541-5397, facsimile number: (919) 685-3195, e-mail address: shedd.steve@epa.gov.

Compliance Information: Ms. Maria Malave, Office of Compliance, Air Compliance Branch (2223A), EPA, Ariel Rios Building, 1200 Pennsylvania Avenue, NW., Washington, DC 20460, telephone: (202) 564-7027, facsimile number: (202) 564-0050, e-mail address: malave.maria@epa.gov.

SUPPLEMENTARY INFORMATION:

Why is EPA issuing this proposed rule? This document proposes to take action on the National Emission Standards for Hazardous Air Pollutants for Source Category: Gasoline Dispensing Facilities. Based on our discussions with industry stakeholders, we have concluded that pressure and vacuum (PV) vent valves capable of meeting the requirements in entry 1.(g) of Table 1 to subpart CCCCCC in the January 10, 2008 final rule (73 FR 1916) are not currently manufactured and thus are not available to affected sources. Therefore, we are proposing to amend the PV vent valve cracking pressure and leak rate requirements for vapor balance systems used to control emissions from gasoline storage tanks at gasoline dispensing facilities. We have published a parallel direct final rule in the Regulations and Rules section of this Federal Register because we view this as a noncontroversial action and anticipate no adverse comment. We have explained our reasons for this action in the preamble to the direct final rule. Newly constructed or reconstructed gasoline dispensing facilities are proposed to comply with the new vapor balance system requirements as explained in the parallel direct final rule. Existing sources must comply with the new vapor balance system requirements by the compliance date contained in the January 10, 2008 final rule, which is January 10, 2011. The compliance dates for all other requirements in the January 10, 2008 final rule remain unchanged for both new and existing sources.

If we receive no adverse comment and no request for a public hearing on the parallel direct final rule, we will not take further action on this proposed rule. If we receive adverse comment on a distinct portion of the direct final rule, we will withdraw that portion of the rule and it will not take effect. In this instance, we would address all public comments in any subsequent final rule based on this proposed rule.

If we receive adverse comment on a distinct provision of the direct final rule, we will publish a timely withdrawal in the Federal Register indicating which provisions we are withdrawing. The provisions that are not withdrawn will become effective on the date set out in the direct final rule, notwithstanding adverse comment on any other provision.

We do not intend to institute a second comment period on this action. Any parties interested in commenting, must do so at this time. For further information, please see the information provided in the ADDRESSES section of this document.

Regulated Entities. Categories and entities potentially regulated by this action include:

Category | NAICS * | Examples of regulated entities
Industry | 447110 447190 | Operations at area source gasoline dispensing facilities.
Federal/State/local/tribal governments
* North American Industry Classification System.

This table is not intended to be exhaustive, but rather provides a guide for readers regarding entities likely to be regulated by this action. To determine whether your facility is regulated by this action, you should examine the applicability criteria in 40 CFR part 63, subpart CCCCCC. If you have any questions regarding the applicability of this action to a particular entity, consult either the air permit authority for the entity or your EPA regional representative as listed in 40 CFR 63.13.

Public Hearing. Persons interested in presenting oral testimony or inquiring as to whether a hearing is to be held should contact Ms. Janet Eck, U.S. EPA, Office of Air Quality Planning and Standards, Sector Policies and Programs Division, Coatings and Chemicals Group (E143-01), Research Triangle Park, NC 27711; telephone number: (919) 541-7946, e-mail address: eck.janet@epa.gov, at least 2 days in advance of the potential date of the public hearing. If a public hearing is held, it will be held at 10 a.m. at EPA's Campus located at 109 T.W. Alexander Drive in Research Triangle Park, NC, or an alternate site nearby. If no one contacts EPA requesting to speak at a public hearing concerning this rule by July 7, 2008 this hearing will be cancelled without further notice.

Worldwide Web (WWW). In addition to being available in the docket, an electronic copy of today's proposal will also be available through the WWW. Following the Administrator's signature, a copy of this action will be posted on EPA's Technology Transfer Network (TTN) policy and guidance page for newly proposed or promulgated rules http://www.epa.gov/ttn/oarpg/. The TTN at EPA's Web site provides information and technology exchange in various areas of air pollution control.

Statutory and Executive Order Reviews

For a complete discussion of all of the administrative requirements applicable to this action, see the direct final rule in the Rules and Regulations section of this Federal Register.

List of Subjects in 40 CFR Part 63

Environmental protection, Administrative practice and procedure, Air pollution control, Intergovernmental relations, Reporting and recordkeeping requirements.

Dated: June 19, 2008.
Stephen L. Johnson,
Administrator.

[FR Doc. E8-14373 Filed 6-24-08; 8:45 am]

BILLING CODE 6560-50-P